FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of the action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—04/01/2002
20020608 | SPC Partners II, L.P | Santiago Aguerre | South Cone, Inc.
20020609 | SPC Partners II, L.P | Fernando Aguerre | South Cone, Inc.
Transactions Granted Early Termination—04/02/2002
20020560 | Biovail Corporation | Merck & Co., Inc | Merck & Co., Inc.
20020573 | Investment Technology Group, Inc | Hoenig Group, Inc | Hoenig Group, Inc.
20020581 | MSC. Software Corporation | Mechanical Dynamics, Inc | Mechanical Dynamics, Inc.
20020594 | Planar Systems, Inc | DOME imaging systems, inc | DOME imaging systems, inc.
Transactions Granted Early Termination—04/05/2002
20020525 | Andrew Corporation | Celiant Corporation | Celiant Corporation
20020531 | Newell Rubbermaid Inc | Allen D. Petersen | American Tool Companies, Inc.
20020579 | Nucor Corporation | The LTV Corporation (Debtor-in-Possession) | Trico Steel Company L.L.C.
20020592 | Hubbell Incorporated | U.S. Industries, Inc | Dual-Lite Inc. LCA Group Inc.
20020607 | Intelsat, Ltd | Lockheed Martin Corporation | COMSAT Corporation. COMSAT Digital Teleport, Inc.
20020611 | Cadbury Schweppes plc | Ocean Spray Cranberries, Inc | Nantucket Allserve, Inc.
20020612 | Charlesbank Equity Fund V. Limited Partnership | Casual Male Corp | Casual Male Corp.
20020615 | LGB Pike Trust | Joe B. Pike | Pike Equipment and Supply Company.
20020617 | Alltrista Corporation | Bligh Limited | Tilia Canada, Inc. Tilia International, Inc. Tilia, Inc.
20020620 | Fox Paine Capital Fund, L.P | Duke Energy Corporation | The HENS Companies.
20020621 | Duke Energy Corporation | Fox Paine Capital Fund, L.P | The HENS Companies.
20020622 | Launchworks, Inc | Viasource Communications, Inc | Viasource Communications, Inc.
20020624 | On Assignment, Inc | Health Personnel Options Corporation | Health Personnel Options Corporation.
Transactions Granted Early Termination—04/08/2002
20020543 | Identix Incorporated | Visionics Corporation | Visionics Corporation.
20020599 | Tricon Global Restaurants, Inc | Yorkshire Global Restaurants, Inc | Yorkshire Global Restaurants, Inc.
20020623 | Avanex Corporation | Oplink Communications, Inc | Oplink Communications, Inc.
Transactions Granted Early Termination—04/10/2002
20020552 | Philip F. Anschutz | Edison International | Southern California Edison Company.
20020613 | Cleco Corporation | Mirant Corporation | Perryville Energy Partners, L.L.C.
20020619 | The Reader's Digest Associates, Inc | Madison Dearborn Capital Partners II, L.P | Reiman Holding Company, LLC.
Transactions Granted Early Termination—04/12/2002
20020634 | Don Tyson | Millard Refrigerated Services, Inc | Millard Refrigerated Services, Inc.

FOR FURTHER INFORMATION CONTACT:

Sandra M. Peay, or Chandra L. Kennedy, Contact Representatives.

Federal Trade Commission, Premerger Notification Office, Bureau of Competition, Room 303, Washington, DC 20580. (202) 326-3100.

By Direction of the Commission.
Donald S. Clark,
Secretary.

[FR Doc. 02-10577 Filed 4-29-02; 8:45 am]

BILLING CODE 6750-01-M